DEPARTMENT OF THE INTERIOR

National Indian Gaming Commission

Fee Rate and Fingerprint Fees

AGENCY: National Indian Gaming Commission, Interior.

ACTION: Notice.

SUMMARY: Notice is hereby given that the National Indian Gaming Commission has adopted its annual fee rates of 0.00% for tier 1 and 0.08% (.0008) for tier 2, which maintain the current fee rates. These rates shall apply to all assessable gross revenues from each gaming operation under the jurisdiction of the Commission. If a tribe has a certificate of self-regulation, the fee rate on Class II revenues shall be 0.04% (.0004) which is one-half of the annual fee rate. The annual fee rates are effective November 1, 2025, and will remain in effect until new rates are adopted. The National Indian Gaming Commission has also adopted its fingerprint processing fee of $44 per card which remains the same as current fingerprint processing fee. The fingerprint processing fee is effective November 1, 2025, and will remain in effect until the Commission adopts a new rate.

FOR FURTHER INFORMATION CONTACT: Yvonne Lee, National Indian Gaming Commission, 1849 C Street NW, Mail Stop #1621, Washington, DC 20240; telephone (202) 632-7003; fax (202) 632-7066.

SUPPLEMENTARY INFORMATION: The Indian Gaming Regulatory Act (IGRA) established the National Indian Gaming Commission, which is charged with regulating gaming on Indian lands.

Commission regulations (25 CFR 514) provide for a system of fee assessment and payment that is self-administered by gaming operations. Pursuant to those regulations, the Commission is required to adopt and communicate assessment rates and the gaming operations are required to apply those rates to their revenues, compute the fees to be paid, report the revenues, and remit the fees to the Commission. All gaming operations within the jurisdiction of the Commission are required to self-administer the provisions of these regulations, and report and pay any fees that are due to the Commission. It is necessary for the Commission to maintain the fee rate to ensure that the agency has sufficient funding to fully meet its statutory and regulatory responsibilities. In addition, it is critical for the Commission to maintain constantly an adequate transition carryover balance to cover any cash flow variations.

Pursuant to 25 CFR 514, the Commission must also review annually the costs involved in processing fingerprint cards and set a fee based on fees charged by the Federal Bureau of Investigation and costs incurred by the Commission. Commission costs include Commission personnel, supplies, equipment & infrastructure costs, and postage to submit the results to the requesting tribe. In FY26 the Commission will continue its commitment to take necessary measures to comply with the FBI CJIS requirements which ensure the NIGC and participating tribes can continue to use FBI criminal history report information (CHRI) to assist in determining a key employee or primary management official's eligibility for a gaming license.

To ensure compliance with the President issued Executive Order 14247, “Modernizing Payments To and From America's Bank Account” which “mandat[ed] the transition to electronic payments for all Federal disbursements and receipts by digitizing payments”, the NIGC is in the process of phasing out paper check receipts and transitioning to receiving all payments via Pay.gov, a secure digital method. Along with other Federal Government bureaus and agencies, all payments made to the NIGC shall be submitted and processed electronically using the Pay.gov website. Tribes can visit the Commission's website at www.nigc.gov for details on how to sign into the system, information required for submission, and how to change and correct submissions.

Dated: October 23, 2025.
Sharon M. Avery,
Acting Chair.
Jean Hovland,
Vice Chair.

[FR Doc. 2025-19731 Filed 10-30-25; 8:45 am]

BILLING CODE 7565-01-P